NATIONAL COUNCIL ON DISABILITY

Sunshine Act Meetings; Correction

AGENCY: National Council on Disability.

ACTION: Notice; correction.

Type: Quarterly meeting.

SUMMARY: NCD published a Sunshine Act Meeting Notice in the Federal Register on March 11, 2010, notifying the public of a quarterly meeting in Detroit, MI. The meeting has been cancelled.

FOR FURTHER INFORMATION CONTACT: Mark Quigley, Director of Communications, NCD, 1331 F Street, NW., Suite 850, Washington, D.C. 20004; 202-272-2004 (voice), 202-272-2074 (TTY), 202-272-2022 (fax).

Correction

In the Federal Register on March 11, 2010, in FR Doc. 2010-5407, on pages 11565-11566, correct the “Dates and Times” and “Location” captions to read:

Date and Times: Meeting cancelled.

Location: Meeting cancelled.

Dated: March 25, 2010.
Joan M. Durocher,
Executive Director.

[FR Doc. 2010-7717 Filed 4-1-10; 11:15 am]

BILLING CODE 6820-MA-P